DEPARTMENT OF THE INTERIOR

Bureau of Land Management

[LLNVB0200000 L51100000.GN0000 LVEMCF020000 241A; 10-08807; MO#4500011977; TAS: 14X5017]

Notice of Availability of the Final Environmental Impact Statement for the Round Mountain Expansion Project, Nye County, NV

AGENCY: Bureau of Land Management, Interior.

ACTION: Notice of Availability.

SUMMARY: In accordance with the National Environmental Policy Act of 1969, as amended, and the Federal Land Policy and Management Act of 1976, as amended, the Bureau of Land Management (BLM) has prepared a Final Environmental Impact Statement (EIS) for the Round Mountain Expansion Project and by this notice is announcing its availability.

DATES: The BLM will not issue a final decision on the proposal for a minimum of 30 days from the date that the Environmental Protection Agency publishes its notice in the Federal Register.

ADDRESSES: Copies of the Round Mountain Expansion Project Final EIS are available for public inspection at the BLM Tonopah Field Office, 1553 South Main Street, Tonopah, Nevada, during regular business hours of 7:30 a.m. to 4:30 p.m., Monday through Friday, except holidays. Interested persons may also review the Final EIS at the following Web site: http://www.blm.gov/nvst/en/fo//battle_mountain_field.html.

FOR FURTHER INFORMATION CONTACT: Chris Worthington, Planning and Environmental Coordinator, (775) 635-4000; BLM Battle Mountain District, 50 Bastian Road, Battle Mountain, Nevada 89820-1420; e-mail: christopher_worthington@blm.gov.

SUPPLEMENTARY INFORMATION: The Round Mountain Gold Corporation, which is a joint venture of Kinross Gold Corporation and Barrick Gold Corporation, proposes to expand its Round Mountain Mine, an existing open-pit gold mining and processing operation. The Round Mountain Mine is located in central Nevada approximately 55 miles north of Tonopah in Nye County.

The proposed Project would expand mining operations in the Round Mountain area and develop new open pit mining and leaching facilities several miles to the north in the Gold Hill area. Mine expansion in the Round Mountain area would increase the existing Round Mountain mine plan boundary by 3,122 acres to a total of 10,385 acres; expand the Round Mountain pit by 209 acres to approximately 1,289 acres; expand the dewatering operations by 1,325 gallons per minute (gpm) to a maximum rate of 7,525 gpm; allow for underground mining operations within the Round Mountain Pit; expand the north waste rock dump by 700 acres to approximately 1,919 acres; allow for the construction of a new north dedicated leach pad with a footprint of approximately 538 acres; increase the daily production capacity of the Round Mountain Mill from 11,000 tons per day to 22,000 tons per day; and increase tailings disposal capacity from a currently authorized 677 acres to approximately 1,607 acres.

Development in the Gold Hill area would include delineating a project boundary of approximately 4,928 acres; excavating an open pit with a footprint of approximately 222 acres; creating two waste rock dumps with combined footprints of approximately 552 acres; constructing and operating a heap leach facility and lined solution ponds with a footprint of approximately 300 acres; and constructing a 1.1 mile transportation and utility corridor of about 66.2 acres between the Round Mountain area and the Gold Hill area. The primary method of processing low-grade ore in the Gold Hill area would be heap leaching.

A range of action alternatives was developed and analyzed to address the concerns and issues that were identified. The alternatives include processing all Gold Hill ore in the Gold Hill area rather than trucking some ore to Round Mountain for processing (Gold Hill area processing alternative); constructing an overpass rather than a grade crossing at the intersection of the transportation and utility corridor and County Road 875 (County Road Overpass Alternative); and completing mining at Round Mountain under current BLM authorizations (No Action Alternative). Other alternatives considered, and the rationale for their elimination from detailed analysis, are also discussed. Mitigation measures have been identified, as needed, to minimize potential environmental impacts and to ensure that the proposed project would not result in undue or unnecessary degradation of public lands. In addition, the Final EIS includes an analysis of cumulative impacts, including a comprehensive evaluation of potential impacts to Native American cultural values.

The BLM mailed information on the proposed Round Mountain Mine expansion to the Timbisha, Duckwater, Yomba, and Ely tribes in December 2006. Tribal representatives and individuals attended scoping meetings for the project in January 2007. Several informal meetings were held at the Round Mountain Mine attended by tribal representatives and members of the newly formed Western Shoshone Descendents of Big Smoky Valley. Six of these informal meetings were held between June 2007 and April 2009. Some of the meetings included field trips to inspect cultural sites discovered during cultural surveys of the proposed project area. The tribes and some Native American individuals received copies of the Draft EIS for the proposed mine expansion. Some tribal representatives and individuals attended the two BLM-hosted public meetings on the Draft EIS held on August 18 and 19, 2009. Written comments from Native Americans were received at the meetings and by mail during the public comment period (July 31, 2009 to September 14, 2009). The comments, and the responses to the comments, are incorporated into the Final EIS.

A Notice of Intent to prepare an EIS was published in the Federal Register on December 26, 2006. Two public scoping meetings were held in 2007 in Hadley and Tonopah, Nevada. The Draft EIS was released for public review on July 21, 2009, with a 45-day comment period. Following release of the Draft EIS, two public comment meetings were held in Hadley and Tonopah in August 2009 to solicit additional comments on the document. Comment responses and resultant changes in the impact analyses are documented in the Final EIS.

Authority: 40 CFR 1506.6.

Thomas J. Seley,
Manager, Tonopah Field Office.

[FR Doc. 2010-9368 Filed 4-22-10; 8:45 am]

BILLING CODE 4310-HC-P